DEPARTMENT OF HEALTH AND HUMAN SERVICES

Centers for Disease Control and Prevention

[CDC-2018-0065; Docket Number NIOSH-317]

Final National Occupational Research Agenda for Oil and Gas Extraction

AGENCY: National Institute for Occupational Safety and Health (NIOSH) of the Centers for Disease Control and Prevention (CDC), Department of Health and Human Services (HHS).

ACTION: Notice of availability.

SUMMARY: NIOSH announces the availability of the final National Occupational Research Agenda for Oil and Gas Extraction

DATES: The final document was published on November 27, 2018 on the CDC website.

ADDRESSES: The document may be obtained at the following link: https://www.cdc.gov/nora/councils/oilgas/agenda.html

FOR FURTHER INFORMATION CONTACT: Emily Novicki, M.A., M.P.H, (NORACoordinator@cdc.gov), National Institute for Occupational Safety and Health, Centers for Disease Control and Prevention, Mailstop E-20, 1600 Clifton Road NE, Atlanta, GA 30329, phone (404) 498-2581 (not a toll free number).

SUPPLEMENTARY INFORMATION: On July 26, 2018, NIOSH published a request for public review in the Federal Register [83 FR 35485] of the draft version of the National Occupational Research Agenda for Oil and Gas Extraction. The single comment received expressed support.

Dated: November 29, 2018.
Frank J. Hearl,
Chief of Staff, National Institute for Occupational Safety and Health, Centers for Disease Control and Prevention.

[FR Doc. 2018-26315 Filed 12-3-18; 8:45 am]

BILLING CODE 4163-19-P